DEPARTMENT OF VETERANS AFFAIRS

Joint Biomedical Laboratory Research and Development and Clinical Science Research and Development Services Scientific Merit Review Board, Notice of Meetings

The Department of Veterans Affairs gives notice under the Public Law 92-463 (Federal Advisory Committee Act) that the subcommittees of the Joint Biomedical Laboratory Research and Development and Clinical Science Research and Development Services Scientific Merit Review Board will meet from 8 a.m. to 5 p.m. as indicated below:

Subcommittee for | Date(s) | Location
Mental Hlth & Behav Sciences-A | May 7, 2007 | St. Gregory Hotel.
Infectious Diseases-A | May 10, 2007 | Radisson Hotel.
Endocrinology-B | May 14, 2007 | Beacon Hotel.
Nephrology | May 14, 2007 | Wyndham Washington, DC.
Immunology-A | May 17, 2007 | L'Enfant Plaza Hotel.
Hematology | May 18, 2007 | *VA Central Office.
Cardiovascular Studies | May 21, 2007 | Woodfin Suites.
Endocrinology-A | May 21-22, 2007 | Radisson Hotel.
Epidemiology | May 23, 2007 | *VA Central Office.
Cellular & Molecular Medicine | May 24, 2007 | Radisson Hotel.
Infectious Diseases-B | May 31, 2007 | Double Tree Hotel.
Oncology-A | May 31, 2007 | L'Enfant Plaza Hotel.
Mental Hlth & Bahav Sciences-B | May 31, 2007 | L'Enfant Plaza Hotel.
Respiration | June 1, 2007 | Double Tree Hotel.
Neurobiology-E | June 4, 2007 | Beacon Hotel.
Surgery | June 4, 2007 | St. Gregory Hotel.
Immunology-B | June 5, 2007 | Radisson Hotel.
Clinical Research Program | June 6, 2007 | *VA Central Office.
Neurobiology-A | June 11, 2007 | St. Gregory Hotel.
Neurobiology-D | June 11, 2007 | Beacon Hotel.
Oncology-B | June 14, 2007 | L'Enfant Plaza Hotel.
Neurobiology-C | June 14-15, 2007 | Radisson Hotel.
Gastroenterology | June 15, 2007 | L'Enfant Plaza Hotel.
The addresses of the hotels and VA Central Office are: Beacon Hotel & Corporate Quarters, 1615 Rhode Island Avenue, NW., Washington, DC; Double Tree Hotel, 1515 Rhode Island Avenue, NW., Washington, DC; L'Enfant Plaza Hotel, 480 L'Enfant Plaza, SW., Washington, DC; Radisson Hotel Reagan National Airport, 2020 Jefferson Davis Highway, Arlington, VA; St. Gregory Hotel, 2033 M Street, NW., Washington, DC; VA Central Office, 1722 Eye Street, NW., Washington, DC; Woodfin Suites Hotel Rockville, 1380 Piccard Drive, Rockville, MD; Wyndham Hotel, 1400 M Street, Washington, DC.
*Teleconference.

The purpose of the Merit Review Board is to provide advice on the scientific quality, budget, safety and mission relevance of investigator-initiated research proposals submitted for VA merit review consideration. Proposals submitted for review by the Board involve a wide range of medical specialities within the general areas of biomedical, behavioral and clinical science research.

The subcommittee meetings will be open to the public for approximately one hour at the start of each meeting to discuss the general status of the program. The remaining portion of each subcommittee meeting will be closed to the public for the review, discussion, and evaluation of initial and renewal projects.

The closed portion of each meeting involves discussion, examination, reference to staff and consultant critiques of research protocols. During this portion of each subcommittee meeting, discussion and recommendations will deal with qualifications of personnel conducting the studies, the disclosure of which would constitute a clearly unwarranted invasion of personal privacy, as well as research information, the premature disclosure of which could significantly frustrate implementation of proposed agency action regarding such research projects.

As provided by subsection 10(d) of Public Law 92-463, as amended, closing portions of these subcommittee meetings is in accordance with 5 U.S.C. 552b(c)(6) and (9)(B). Those who plan to attend or would like to obtain a copy of minutes of the subcommittee meetings and rosters of the members of the subcommittees should contact LeRoy G. Frey, PhD, Chief, Program Review (121F), Department of Veterans Affairs, 810 Vermont Avenue, NW., Washington, DC 20420. Dr. Frey can be contacted by phone at (202) 254-0288.

Dated: April 6, 2007.
By direction of the Secretary.
E. Philip Riggin,
Committee Management Officer.

[FR Doc. 07-1877 Filed 4-16-07; 8:45 am]

BILLING CODE 8320-01-M